DEPARTMENT OF DEFENSE

Department of the Army

Defense Transportation Regulation, Part IV, Personal Property; Proposed Change

AGENCY: Department of the Army, DoD.

ACTION: Notice; request for comments.

SUMMARY: The U.S. Transportation Command proposes to issue an updated version of DOD 4500.9-R, the Defense Transportation Regulation (DTR), Part IV, Personal Property. The revised DOD Regulation 4500.9-R, Part IV, replaces DOD Regulation 4500.34R. Personal Property Traffic Management Regulation (PPTMR) dated August 1999 and applies to the Office of the Secretary of Defense, Military Departments, Chairman and Joint Chiefs of Staff, Unified Commands, and the Defense Agencies. All chapters and appendices have been re-numbered to specifically identify them with DTR Part IV. Notable substantive changes have been made to several sections of this publication that may affect the household goods industry.

DATES: U.S. Transportation Command will receive comments not later than June 10, 2002, via formal correspondence to United States Transportation Command, Attn: TCJ4-LT, 508 Scott Drive, Scott AFB, IL 62225-5357.

FOR FURTHER INFORMATION CONTACT: David Myers, U.S. Transportation Command, TCJ4-LTP, 508 Scott Drive, Room 264, Scott AFB, IL 62225-5357; Telephone (618) 229-1985.

SUPPLEMENTARY INFORMATION: In furtherance of DOD's goal of making its Personal Property Program more efficient, the following changes have been made:

A. Changes to the Tender of Service centered on the addition of Required Port Delivery Date (RPDD) provisions. The RPDD is a specified calendar date upon which the carrier/contractor agrees to deliver code J and/or DPM unaccompanied baggage shipments to the APOE as specified on the bill of lading and required by the tender of service/rate solicitation or appropriate contracts. The RPDD is established to support the Advance Shipping Notice (ASN) program. ASN is a developing capability to accurately predict cargo arrival by weight, cube and channel at Air Mobility Command Aerial Ports of Embarkation (APOEs) regardless of operational tempo, in time to impact aircraft scheduling.

B. A new Performance Work Statement, which has been completely rewritten to reflect a performance-based direct procurement method (DPM) shipments. As a requirements type contract many of the clauses, which define how to perform the ordered services, are replaced with clauses addressing the actual requirements. This Performance Work Statement also reflects updated specifications for household goods containers, crates, fiberboard containers, strapping, and cushioning material. Additionally, this Performance Work Statement includes the addition of Required Port Delivery Date (RPDD) provisions for DPM shipments.

C. An updated version of the Transit Times for International through Government Bill of Lading and Direct Procurement Method Household Goods Shipments between the Continental United States, Hawaii and Overseas. The transit times were developed by the Military Traffic Management Command in coordination with the Service headquarters and Industry and are based on actual transportation experience, capabilities, and schedules, and are effective for IWO2 rate cycle.

D. Updates to the Total Quality Assurance Program to include (1) restrictions placed on carrier personnel from smoking in the member's residence (without member's approval) or in the moving van or container; (2) addition of RPDD provisions, (3) Carriers return to the TDR after return of LOI, (4) conversion of shipments to (NTS) or commercial storage not requiring a DD Form 1840 for scoring, (5) procedures for what to do if there is not enough information to develop an estimate of the loss/or damage, i.e. the PPSO will indicate a dollar amount under $100 on DD Form 1780, (6) elimination of or reduction of shipment scores when “Date signed”, Blocks 14 and 15 have not been completed on the 1840 form (7) procedures to follow if a “Shipment is Detained by Customs”.

E. An updated requirement for the Military Shipping Label used in the movement of DOD household goods and unaccompanied baggage. The 2-dimensional bar coding requirement is found in the following locations within the new DTR Part IV:

(1) Chapter 402, Paragraph K.7.c. “The carrier agent must have the equipment to produce both linear and 2D barcode shipping labels or have contracted means to provide linear and 2D barcode labels.”

(2) Chapter 403, Paragraph C.1. “ITGBL and DPM HHG and UB containers must have a completed military shipping label (MSL) affixed on one side and one end panel, except for duffel bags and similar packages which must have an MSL affixed to one surface. The MSL (Figure 403-2) requires human-readable information as well as linear and 2-dimensional bar codes. The human readable and linear bar coded portions of the MSL, are prepared by the carrier or carrier's agent as described below and the 2-dimensional bar code is prepared IAW Appendix S. If the shipping container does not lend itself to application of the label, or if the label would cover or interfere with other required markings, the label will be attached to a general purpose tag or a placard. The general purpose tag or placard will be tied, wired, or otherwise fastened to the shipment unit or movement conveyance.”

(3) Chapter 403, Paragraph C.2. “the following listed human readable data and Code 39 linear bar codes will be placed on each MSL. The human readable unit of measure will be provided in US standard terms, e.g., pieces, inches, feet, pounds for applicable measured items and the data values will be rounded up to the nearest whole number with leading zeros suppressed. Also see DOD Handbook, MIL-HDBK-129, Military Marking and American National Standard for Material Handling (ANSI) MH10.8.1-2000, Linear Bar Code and Two-Dimensional Symbols Used in Shipping, Receiving, and Transport Applications.

F. An updated requirement for the addition of RPDD is addressed in several locations of the new DTR, to include:

1. Chapter 402, Paragraph D.3. “Establishment of a RPDD for Code J and DPM UB Shipments”.

(a) TOPS will assign a RPDD and print it on the BL.

(b) For Code J UB shipments, the carrier/agent must provide the actual weight and cube of each shipment, within three working days after pickup. The TO/PPSO must then enter the actual weight and cube into TOPS within one working day after receipt from the local agent. The carrier/agent will stencil RPDD on all boxes.

(c) For DPM UB shipments, the contractor must provide the TO/PPSO the actual pieces, weight, and cube prior to the BL being printed and provided to the contractor or carrier. It is imperative that the contractor provides the required information to the TO/PPSO within one working day after pickup.

(d) The selected Code J/DPM port agent/carrier/contractor is responsible for delivering each shipment to the assigned AMC aerial port on the RPDD assigned. If the RPDD does not print on the BL, the TO must compute the RPDD using the formula in Chapter 413, Paragraph D.1.r.(2)(c) (for DPM) or Paragraph D.1.y.(16)(a) (for Code J) and annotate the date in Block 18 for DPM and Block 25 for Code J on the BL.”

2. Chapter 413, Paragraph D.1.r.(2)(c) “For DPM shipments to the APOE, enter “RPDD; (insert date) at the APOE.” The RPDD is established from the baggage pickup date by adding the origin processing time of four workdays (not including weekends and holidays) for the origin processing time, plus the LTL standard transit time (including weekends and holidays). If the RPDD falls on a weekend or a holiday, the RPDD would be assigned the next workday. For example:

DPM Shipment from Missouri to Dover, LTL standard transit time is five days.

Pickup Date: 16 May 01 (Wednesday)

Origin Agent Processing: 17 May 01 (Thursday)—22 May 01 (Tuesday)

LTL Standard Transit Time: 23 May 01 (Wednesday)—27 May 01 (Sunday)

RPDD Printed on PPGBL: 29 May 01 (Tuesday).

This example de-conflicts both a weekend and holiday of 28 May 01 (Memorial Day).”

3. Chapter 413, Paragraph D.1.y.(16)(a) “For Code J shipments, enter “RPDD; (insert date) at the POE.” the RPDD is established from the pickup date plus four workdays (not including weekends and holidays) for the origin processing time, plus the LTL standard transit time (including weekends and holidays), plus two workdays for the port agent processing and delivery (not including weekends and holidays). For example:

UB Shipment from Texas to Dover, LTL standard transit time is six days.

Pickup Date: 4 May 01 (Friday)

Origin Agent Processing: 7 May 01 (Monday)—10 May 01 (Thursday)

LTL Standard Transit Time: 11 May 01 (Friday)—16 May 01 (Wednesday)

Port Agent Processing: 17 May 01 (Thursday)—18 May 01 (Friday)

RPDD Printed on PPGBL: 18 May 01 (Friday)”

Note: In the days since the draft DTR was published and coordinated, significant improvements to the RPDD were coordinated between Industry, HQMTMC and USTRANSCOM. These changes will be advertised in a different forum, but include not penalizing the carrier for early arrival of code J to the aerial port within a 3-day window, vice one-day window.

Additional information: The following documents are available for review via the internet on MTMC's homepage at www.mtmc.army.mil. (1) The complete version of the DTR, (2) updated versions of the Tender of Service (Appendix B), (3) Performance Work Statement (Appendix G), (4) Transit times for International Through Government Bill of Lading and Direct Procurement Method Household Goods Shipments between the Continental United States, Hawaii and Overseas (Appendix M), (5) Transit Times for International Through Government Bill of Lading and Direct Procurement Method Unaccompanied Baggage Shipments between the Continental United States, Hawaii and Overseas (Appendix N), (6) and the Total Quality Assurance Program (Appendix O).

G. Regulatory Flexibility Act. This change is related to public contracts and is designed to standardized distance calculations for line-haul transportation. This change is not considered rule making within the meaning of the Regulatory Flexibility Act, 5 U.S.C. 601-612.

H. Paperwork Reduction Act. The Paperwork Reduction Act, 44 U.S.C. 3501 Et seq., does not apply because no information collection requirement or records keeping responsibilities are imposed on offerors, contractors, or members of the public.

Background: As agreed to at the Military/Industry Symposium, the DTR changes are being placed in the Federal Register for comments to ensure Industry is involved in its revision.

Patricia K. Hunt,
Col, USAF, DCS, Passenger and Personal.

[FR Doc. 02-8679 Filed 4-10-02; 8:45 am]

BILLING CODE 3710-08-M